DEPARTMENT OF AGRICULTURE

Animal and Plant Health Inspection Service

[Docket No. 05-028-1]

Notice of Request for Extension of Approval of an Information Collection; National Animal Identification System

AGENCY: Animal and Plant Health Inspection Service, USDA.

ACTION: Extension of approval of an information collection; comment request.

SUMMARY: In accordance with the Paperwork Reduction Act of 1995, this notice announces the Animal and Plant Health Inspection Service's intention to request an extension of approval of an information collection associated with a national animal identification system.

DATES: We will consider all comments that we receive on or before July 25, 2005.

ADDRESSES: You may submit comments by either of the following methods:

• EDOCKET: Go to http://www.epa.gov/feddocket to submit or view public comments, access the index listing of the contents of the official public docket, and to access those documents in the public docket that are available electronically. Once you have entered EDOCKET, click on the “View Open APHIS Dockets” link to locate this document.

• Postal Mail/Commercial Delivery: Please send four copies of your comment (an original and three copies) to Docket No. 05-028-1, Regulatory Analysis and Development, PPD, APHIS, Station 3C71, 4700 River Road Unit 118, Riverdale, MD 20737-1238. Please state that your comment refers to Docket No. 05-028-1.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: You may view APHIS documents published in the Federal Register and related information on the Internet at http://www.aphis.usda.gov/ppd/rad/webrepor.html.

FOR FURTHER INFORMATION CONTACT: For information on the national animal identification system, contact Mr. Neil Hammerschmidt, Animal Identification Coordinator, Eradication and Surveillance Team, National Center for Animal Health Programs, VS, APHIS, 4700 River Road Unit 43, Riverdale, MD 20737; (301) 734-5571. For copies of more detailed information on the information collection, contact Mrs. Celeste Sickles, APHIS' Information Collection Coordinator, at (301) 734-7477.

SUPPLEMENTARY INFORMATION: Title: National Animal Identification System.

OMB Number: 0579-0259.

Type of Request: Extension of approval of an information collection.

Abstract: The Animal and Plant Health Inspection Service (APHIS) of the U.S. Department of Agriculture (USDA) regulates the importation and interstate movement of animals and animal products and conducts various other activities to protect the health of our Nation's livestock and poultry.

Animal disease outbreaks around the globe over the past decade, and the detection of an imported cow infected with bovine spongiform encephalopathy in Washington State in December 2003, have intensified the public interest in developing a national animal identification program for the purpose of protecting animal health.

Fundamental to controlling any disease threat, foreign or domestic, to the Nation's animal resources is to have a system that can identify individual animals or groups, the premises where they are located, and the date of entry to each premises. Further, in order to achieve optimal success in controlling or eradicating an animal health threat, the timely retrieval of this information and implementation of intervention strategies after confirmation of a disease outbreak is necessary.

While there is currently no nationwide animal identification system in the United States for all animals of a given species, some segments of certain species are required to be identified as part of current program disease eradication activities. In addition, some significant regional voluntary identification programs are in place, and others are currently being developed and tested.

In 2004, USDA launched a limited pilot program that enabled States and tribes to initiate experimental animal and premises identification projects and to conduct trials and research to develop, test, and offer solutions for administering animal identification and collecting animal movement data. The pilot program has concluded.

A national animal identification system is being implemented by USDA at present on a voluntary basis. It is intended to identify all livestock, as well as record their movements over the course of their lifespans. USDA's goal is to create an effective, uniform, consistent, and efficient system that, when fully implemented, will allow traces to be completed within 48 hours of detection of a disease, ensuring rapid containment of the disease.

This system will also be crucial as USDA works to complete eradication programs in which States, industry, and the Federal Government have invested many years and millions of dollars. USDA is committed to developing a program that is tested both on the farm and in the livestock markets to ensure it is both practical and effective. USDA's technology-neutral position will allow industry to determine which animal identification method or methods are the most practical and effective for each species.

This national system will not require additional identification for animals already required to be identified as part of current disease eradication programs, but will replace or supplement various systems currently being used. It may, in fact, simplify the animal identification requirements in many cases, since a national system would provide for a single identification number for each animal rather than multiple numbers for different programs.

The national animal identification program involves a number of information collection and recordkeeping activities, including nonproducer participant, individual animal, and animal group identifications; premises identifications; individual transaction records; group/lot movement records; a national animal identification implementation workplan submitted by participants applying for routine implementation funds; and a quarterly accomplishments report so that APHIS can track the progress of their various implementation projects and activities.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: Public reporting burden for this collection of information is estimated to average 0.2039184 hours per response.

Respondents: State animal health authorities; federally recognized tribal governments; owners/operators of feedlots, markets, buying stations, and slaughter plants; producers; and nonproducer participants, such as accredited veterinarians, animal identification (ID) number managers (individuals or firms responsible for assigning animal ID numbers to producers), animal ID companies (companies that manufacture animal ID tags, microchips, or other animal ID devices), third party service providers (companies that provide herd management, dairy herd improvement, genetic evaluation, and other services to producers), and diagnostic laboratories and livestock buyers/dealers who submit data to the national database.

Estimated annual number of respondents: 250,000.

Estimated annual number of responses per respondent: 5.002.

Estimated annual number of responses: 1,250,000.

Estimated total annual burden on respondents: 255,000 hours. (Due to averaging, the total annual burden hours may not equal the product of the annual number of responses multiplied by the reporting burden per response.)

Done in Washington, DC, this 20th day of May 2005.
Elizabeth E. Gaston,
Acting Administrator, Animal and Plant Health Inspection Service.

[FR Doc. E5-2671 Filed 5-25-05; 8:45 am]

BILLING CODE 3410-34-P